DEPARTMENT OF THE INTERIOR

Fish and Wildlife Service

[FWS-R7-ES-2010-N192; 70120-1113-0000-C4]

Endangered and Threatened Wildlife and Plants; Notice of Availability of Draft Recovery Plan for the Southwest Alaska Distinct Population Segment of the Northern Sea Otter

AGENCY: Fish and Wildlife Service, Interior.

ACTION: Notice of document availability for review and public comment.

SUMMARY: We, the U.S. Fish and Wildlife Service (Service), announce the availability of our draft recovery plan for the southwest Alaska Distinct Population Segment (DPS) of the northern sea otter (Enydra lutris kenyoni), listed as threatened under the Endangered Species Act of 1973, as amended (Act). Our recovery plan describes the status, current management, recovery objectives and criteria, and specific actions needed to enable us to delist the southwest Alaska DPS. We request review and comment on our plan from local, State, and Federal agencies and the public. We will also accept any new information on the species' status throughout its range.

DATES: We must receive written comments on or before February 9, 2011. However, we will accept information about any species at any time.

ADDRESSES: Copies of the draft recovery plan are available by request from the U.S. Fish and Wildlife Service, Marine Mammals Management Office, 1011 East Tudor Road, Anchorage, AK 99503; telephone 907/786-3800; facsimile 907/786-3816. If you use a telecommunications device for the deaf (TDD), call the Federal Information Relay Service (FIRS) at 800-877-8339. An electronic copy of the draft recovery plan is also available at: http://alaska.fws.gov/fisheries/mmm/seaotters/recovery.htm.

For how to submit comments, see “Request for Public Comments” under SUPPLEMENTARY INFORMATION.

FOR FURTHER INFORMATION CONTACT: Douglas M. Burn, Wildlife Biologist, at the above address or telephone number.

SUPPLEMENTARY INFORMATION:

Background

Recovery of endangered or threatened animals and plants to the point where they are again secure, self-sustaining members of their ecosystems is a primary goal of our endangered species program and the Act (16 U.S.C. 1531 et seq.). To help guide the recovery effort, we are working to prepare recovery plans for most listed species native to the United States. The Act requires that we develop recovery plans for listed species, unless such a plan would not promote the conservation of a particular species, and that we provide public notice and an opportunity for public review and comment during recovery plan development. Recovery plans describe actions considered necessary for the conservation and survival of the species, establish criteria for reclassifying or delisting listed species, and estimate time and cost for implementing needed recovery measures.

We listed the southwest Alaska DPS of the northern sea otter as threatened on August 9, 2005 (70 FR 46366). For description, taxonomy, distribution, status, breeding biology and habitat, and a summary of factors affecting the species, please see the final listing rule. Critical habitat was designated for this DPS on October 8, 2009 (74 FR 51988).

The southwest Alaska population ranges from Attu Island at the western end of Near Islands in the Aleutians, east to Kamishak Bay on the western side of lower Cook Inlet, and includes waters adjacent to the Aleutian Islands, the Alaska Peninsula, the Kodiak archipelago, and the Barren Islands (see Figure 3 of the February 11, 2004, Proposed Listing Rule; 69 FR 6605). Within this range, sea otters generally occur in nearshore, shallow waters less than 100 meters (m) (328 ft) in depth. This population experienced a rapid decline in abundance of more than 50 percent since the late 1980s. At the time of our 2005 final listing rule, we estimated that the DPS consisted of approximately 42,000 sea otters.

The magnitude of the population decline has varied over the range. In some areas, numbers have declined by more than an order of magnitude, while in other areas no decline has been detected. To address such differences, this recovery plan identifies five management units (MUs) within the DPS: (1) Western Aleutian Islands; (2) Eastern Aleutian Islands; (3) South Alaska Peninsula; (4) Bristol Bay; and (5) Kodiak, Kamishak, Alaska Peninsula.

The cause of the overall decline is not known with certainty, but the weight of evidence points to increased predation, most likely by the killer whale (Orcinus orca), as the most likely cause. Predation is therefore considered a threat to the recovery of this DPS; however, other threats—including infectious disease, biotoxins, contaminants, oil spills, food limitation, disturbance, bycatch in fisheries, subsistence harvest, loss of habitat, and illegal take—are also considered in this recovery plan. Threats are summarized in general, and their relative importance is assessed for each of the five MUs. Most threats are assessed to be of low importance to recovery of the DPS; the threats judged to be most important are predation (moderate to high importance) and oil spills (low to moderate importance). Threats from subsistence harvest, illegal take, and infectious disease are assessed to be of moderate importance in the Kodiak, Kamishak, Alaska Peninsula MU, but of low importance elsewhere.

The goal of the recovery program is to control or reduce threats to the southwest Alaska DPS of the northern sea otter to the extent that this DPS no longer requires the protections afforded by the Act and therefore can be delisted. To achieve this goal, the recovery plan identifies three objectives: (1) Achieve and maintain a self-sustaining population of sea otters in each MU; (2) maintain enough sea otters to ensure that they are playing a functional role in their nearshore ecosystem; and (3) mitigate threats sufficiently to ensure persistence of sea otters. Each of these objectives includes explicit criteria to determine if the objective has been met; these are known as “delisting criteria.” They stipulate that in order for the DPS to be removed from the Endangered and Threatened Species List, at least three of the five MUs must have met the delisting criteria. Delisting should not be considered, however, if any MU meets the criteria specified for uplisting to endangered. The plan also contains criteria to determine if the DPS should be considered for reclassification as endangered; these are known as “uplisting criteria.”

Specific actions to achieve recovery and delisting of the DPS are specified in the recovery action outline and narrative. As demographic characteristics of the population constitute one of the three types of delisting criteria, population monitoring and population modeling are high priorities. Monitoring the status of the kelp forest ecosystem in the Western Aleutian and Eastern Aleutian MUs is also a high priority, as results from such monitoring will be needed to evaluate the ecosystem-based delisting criteria. Other high-priority actions include identifying characteristics of sea otter habitat, and ensuring that adequate oil spill response capability exists in southwest Alaska. As predation is considered to be the most important threat to recovery, additional research on that topic is also a high priority. The recovery implementation schedule provides details regarding the timing, cost, and agencies or entities responsible for implementing each recovery action. The full cost of implementing this recovery plan over the next 5 years is approximately $15M, of which $2.815M is for Priority 1 actions. Securing adequate funding to implement the plan is therefore also a high priority.

Request for Public Comments

We request written comments on the draft recovery plan. All comments received by the date specified in DATES will be considered prior to finalization of this recovery plan. If you wish to comment, you may submit your comments and materials concerning this recovery plan by one of these methods:

(1) You may submit written comments and information by mail or facsimile or in person to the Alaska Regional Office at the above address (see ADDRESSES).

(2) You may send comments by electronic mail (e-mail) to r7_mmm_comment@fws.gov. Please include your name and return address in your e- mail message.

Comments and materials received, as well as supporting documentation used in preparation of the recovery plan, will be available for inspection, during normal business hours at the above Anchorage address (see ADDRESSES).

We specifically seek comments on the following:

(1) Biological, commercial trade, or other relevant data concerning any threat (or lack thereof) to the species;

(2) Additional information concerning the range, distribution, and population size of these species, including the location of any additional populations;

(3) Current or planned activities in the subject area and their possible impacts on these species; and

(4) The suitability and feasibility of the recovery criteria, strategies, or actions described in the draft recovery plan.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: We developed our draft recovery plan under the authority of section 4(f) of the Act, 16 U.S.C. 1533(f). We publish this notice under section 4(f) Endangered Species Act of 1973, as amended (16 U.S.C. 1531 et seq.).

Dated: September 8, 2010.
Gary Edwards,
Acting Regional Director, Alaska Region, U.S. Fish and Wildlife Service.

[FR Doc. 2010-25538 Filed 10-8-10; 8:45 am]

BILLING CODE 4310-55-P